DEPARTMENT OF AGRICULTURE

Natural Resources Conservation Service

Midcontinent Express Pipeline LLC (Midcontinent); Federal Energy Regulatory Commission (FERC), Docket Nos. CP08-6-000, PF07-4-000 FERC EIS 0220F; May 2008

AGENCY: Natural Resources Conservation Service.

ACTION: Notice of Availability of the Record of Decision.

SUMMARY: Pursuant to Section 102(2)(C) of the National Environmental Policy Act of 1969; the Council on Environmental Quality Guidelines (40 CFR Part 1500); and the Natural Resources Conservation Service Guidelines (7 CFR Part 650), the Natural Resources Conservation Service, U.S. Department of Agriculture has decided to subordinate its rights, acquired under the Wetland Reserve Program (WRP), to allow the Midcontinent Express Pipeline LLC (Midcontinent), to cross NRCS held conservations easements associated with the Midcontinent Project in Madison Parish, LA and Fannin County, Texas.

On October 9, 2007, Midcontinent Express Pipeline LLC (Midcontinent) filed an application under section 7(c) of the Natural Gas Act (NGA) for authorization to construct and operate a pipeline and facilities to be known as the Midcontinent Express Pipeline.

The Federal Energy Regulatory Commission (FERC) has prepared a final environmental impact statement (EIS) to fulfill requirements of the National Environmental Policy Act (NEPA). The purpose of this document was to make public the analysis of the environmental impacts that would likely result from the construction and operation of the proposed Project. The NRCS participated as a cooperating agency in the preparation of the EIS.

The project will affect approximately 5 NRCS held Wetlands Reserve Program (WRP) easements by creating a 50 ft. permanent right of way (within a 100 ft. construction right of way) that extends for approximately 506 miles of which 1.41 miles is over lands encumbered under WRP easements located in Madison Parish, Louisiana and Fannin, Texas.

FOR FURTHER INFORMATION CONTACT: Kevin D. Norton, State Conservationist, Natural Resources Conservation Service, 3737 Government Street, Alexandria, Louisiana 71302; telephone (318) 473-7751.

A limited number of copies of the Record of Decisions (ROD) are available to fill single copy requests at the above address. Basic data evaluated for the ROD are on file and may be reviewed by contacting Kevin D. Norton.

Dated: September 8, 2008.
Kevin D. Norton,
State Conservationist.

[FR Doc. E8-22093 Filed 9-19-08; 8:45 am]

BILLING CODE 3410-16-P